DEPARTMENT OF LABOR

Office of the Secretary

Submission for OMB Review; Comment Request

July 20, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by contacting the Department of Labor. To obtain documentation contact Darrin King at (202) 693-4129 or E-Mail King-Darrin@dol.gov.

Comments should be sent to Office of Information and Regulatory Affairs, Attn: OMB Desk Officers for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through he use of appropriate automated, electronic, mechanical, or other technological collection techniques or other forms of information technology, e.g., permitting electronic submission of responses.

Type of Review: Revision of a currently approved collection.

Agency: Bureau of Labor Statistics (BLS).

Title: Survey of Occupational Injuries and Illnesses.

OMB Number: 1220-0045.

Affected Public: Business or other for-profit; Not-for-profit institutions; Farms; and State, Local, or Tribal Government.

Frequency: Annually.

Number of Respondents: 230,000.

Number of Annual Responses: 230,000.

Estimated Time Per Response: 24 minutes to complete the BLS-9300 form; 14 minutes to record an injury case on the OSHA Injury and Illness Log; and 22 minutes to record an entry on the OSHA Injury and Illness Incident Report.

Total Burden Hours: 327,666.

Total Annualized Capital/Startup Costs: $0.

Total Annual Costs (operating/maintaining systems or purchasing services): $0.

Description: The Survey of Occupational Injuries and Illnesses is the primary indicator of the Nation's progress in providing every working man and woman safe and healthful working conditions. Survey data are also used to evaluate the effectiveness of the Federal and State occupational safety and health programs and to prioritize the use of resources.

Ira L. Mills,
Departmental Clearance Officer.

[FR Doc. 01-19952 Filed 8-15-01; 8:45 am]

BILLING CODE 4510-24-M